ENVIRONMENTAL PROTECTION AGENCY

[FRL-8787-6]

Notice of Proposed Administrative Settlement Pursuant to the Comprehensive Environmental Response, Compensation, and Liability Act; U.S. Colloidal Essence Site

AGENCY: Environmental Protection Agency (EPA).

ACTION: Notice, request for public comments.

SUMMARY: In accordance with Section 122(i) of the Comprehensive Environmental Response, Compensation, and Liability Act (“CERCLA”), as amended, 42 U.S.C. 9622(i), notice is hereby given of a proposed Administrative Agreement for Recovery of Past Response Costs (“Agreement,” Region 9 Docket No. 9-2009-08) pursuant to Section 122(h) of CERCLA concerning the U.S. Colloidal Essence Site (the “Site”), located in Rancho Cucamonga, San Bernardino County, California. The settling party is Walton CWCA Goldenwest 70 LLC. Through the proposed Agreement, the Respondent will reimburse the United States $10,000 for response costs incurred at the Site. The Agreement provides Respondent with a covenant not to sue for past response costs at the Site, and contribution protection. For thirty (30) days following the date of publication of this Notice, the Agency will receive written comments relating to the proposed Agreement. The administrative record and the Agency's response to any comments received will be available for public inspection at EPA's Region IX offices, located at 75 Hawthorne Street, San Francisco, California 94105.

DATES: Comments must be submitted on or before April 30, 2009.

ADDRESSES: The proposed Agreement may be obtained from the EPA Region 9 Superfund Records Center, at 95 Hawthorne Street, San Francisco, California 94105 (415) 536-2000. Comments regarding the proposed Agreement should be addressed to Andrew Helmlinger at the U.S. Environmental Protection Agency (ORC-3), 75 Hawthorne Street, San Francisco, California 94105, and should reference the U.S. Colloidal Essence Site Agreement, and Region IX Docket No. 9-2009-08.

FOR FURTHER INFORMATION CONTACT: Andrew Helmlinger, Office of Regional Counsel, (415) 972-3904, U.S. Environmental Protection Agency, Region 9, 75 Hawthorne Street, San Francisco, CA 94105.

Dated: March 16, 2009.
Keith A. Takata,
Director, Superfund Division.

[FR Doc. E9-7190 Filed 3-30-09; 8:45 am]

BILLING CODE 6560-50-P